DEPARTMENT OF ENERGY

Federal Energy Regulatory Commission

[Project No. 13511-000]

Igiugig Village Council; Notice of Preliminary Permit Application Accepted for Filing and Soliciting Comments, Motions To Intervene, and Competing Applications

August 20, 2009.

On August 10, 2009, Igiugig Village Council filed an application for a preliminary permit, pursuant to section 4(f) of the Federal Power Act, proposing to study the feasibility of the Igiugig RISEC Water Power Project (Igiugig Project or project), located on the Kvichak River in the Lake and Peninsula Borough, Alaska. The sole purpose of a preliminary permit, if issued, is to grant the permit holder priority to file a license application during the permit term. A preliminary permit does not authorize the permit holder to perform any land disturbing activities or otherwise enter upon lands or waters owned by others without the owners' express permission.

The proposed project would consist of the following: (1) Up to 12 proposed RISEC kinetic energy-to-electrical energy conversion devices having a total installed capacity of 40 kilowatts; (2) a proposed 3-phase, 480-volt transmission line either 300 feet long or 4,000 feet long (depending on the location of the RISEC devices) to interconnect with the Igiugig Village Council's existing electric distribution system; and (3) appurtenant facilities. The proposed project would have an estimated average annual generation of 250 megawatt-hours.

Applicant Contact: Steven J. Stassell, P.E., Project Engineer, Alaska Energy & Engineering, Inc., P.O. Box 111405, Anchorage, AK 99511-1405; Ph. (907) 349-0100.

FERC Contact: Nick Jayjack, 202-502-6073.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's website located at http://www.ferc.gov/filing-comments.asp. More information about this project, including a copy of the application, can be viewed or printed on the “eLibrary” link of Commission's website at http://www.ferc.gov/docs-filing/elibrary.asp. Enter the docket number (P-13511) in the docket number field to access the document. For assistance, call toll-free 1-866-208-3372.

Kimberly D. Bose,
Secretary.

[FR Doc. E9-20645 Filed 8-26-09; 8:45 am]

BILLING CODE 6717-01-P